DEPARTMENT OF TRANSPORTATION

National Highway Traffic Safety Administration

Innovative Grants To Support Increased Seat Belt Use Rates

AGENCY: National Highway Traffic Safety Administration (NHTSA), Department of Transportation.

ACTION: Announcement of grants to support innovative and effective projects designed to increase seat belt use rates.

SUMMARY: NHTSA announces the fourth year of a grant program under Section 1403 of the Transportation Equity Act for the 21st Century (TEA-21) to provide funding to States for innovative projects to increase seat belt use rates. Consistent with prior years, the goal of this program is to increase seat belt use rates across the Nation in order to reduce the deaths, injuries, and societal costs that result from motor vehicle crashes. Selection of these Innovative Grants will be determined based on criteria, as specified in this Federal Register Notice. Funds will be tracked in a fashion similar to other highway safety grants, using the Grant Tracking System (GTS). This Notice solicits applications from the States, the District of Columbia and Puerto Rico, through their Governors' Representatives for Highway Safety, for funds to be made available in fiscal year (FY) 2003. Detailed application instructions are provided in the Application Contents and Grant Criteria section of this Notice. The Section 157 Innovative Grants will be awarded to States that comply with the criteria set out in the Application Contents and Grant Criteria Section of this Notice.

DATES: Applications must be received by the appropriate NHTSA Regional Office, on or before August 15, 2002.

ADDRESSES: Each State must submit its application to the appropriate NHTSA Regional Office, to the attention of the Regional Administrator, on or before August 15, 2002. Addresses of the ten Regional Offices are listed in Appendix A.

FOR FURTHER INFORMATION CONTACT: Questions relating to this grant program should be directed to Janice Hartwill-Miller, Occupant Protection Division (NTS-12), Office of Traffic Injury Control Programs, NHTSA, 400 Seventh Street, SW., Room 5118, Washington, DC 20590, by e-mail at jhartwill-miller@nhtsa.dot.gov, or by phone at (202) 366-2684. For legal issues, States should contact Ms. Heidi L. Coleman, Office of Chief Counsel, NCC-30, NHTSA, 400 Seventh Street, SW., Room 5118, Washington, DC 20590, by phone at (202) 366-1834. Interested applicants are advised that no separate application package exists beyond the contents of this announcement.

SUPPLEMENTARY INFORMATION:

Background

The Transportation Equity Act for the 21st Century (TEA-21), Public Law 105-178, was signed into law on June 9, 1998. Section 1403 of TEA-21 contained a safety incentive grant program regarding seat belt usage rates in the States. Under this program, funds are allocated each fiscal year from 1999 until 2003 to States that exceed the national average seat belt use rate or that improve their State seat belt use rate, based on certain required determinations and findings. Section 1403 provided, beginning in FY 2000, any funds remaining unallocated in a fiscal year after determinations and findings related to seat belt use rates have been made are to be used to “make allocations to States to carry out innovative projects to promote increased seat belt use rates.” Today's Notice solicits applications for funds that will become available in FY 2003 under this provision.

TEA-21 imposes several requirements under the innovative projects funding provision. Specifically, to be eligible to receive an allocation, a State must develop a plan for innovative projects to promote increased seat belt use rates statewide and submit the plan to the Secretary of Transportation (by delegation, to NHTSA). NHTSA was directed to establish criteria governing the selection of State plans that are eligible to receive allocations and was further directed to “ensure, to the maximum extent practicable, demographic and geographic diversity and a diversity of seat belt use rates among the States selected for allocations.” Finally, subject to the availability of funds, TEA-21 provides that the amount of each grant under a State plan should not be less than $100,000.

In the following sections, the agency describes the application and award procedures for receipt of funds under this provision, for FY 2003. This description includes the requirements regarding contents of a State's proposal and the elements, procedures and criteria the agency will use to determine which proposals are eligible for award, proposed activities that will not be approved for funding, and the amount of each award.

These application and award procedures are built upon the experience of the past several years. They are designed to make the process as streamlined as possible, and at the same time, to ensure that programs with the maximum potential for impact receive adequate funding to significantly increase seat belt usage. The award criteria have been designed to support those States proposing to carry out intensified, statewide programs of high visibility enforcement of their seat belt laws. Experience from many States has shown that such programs can substantially increase seat belt use rates in a very short period of time and such gains can be sustained.

Objective of This Grant Program

The objective of this grant program is to increase statewide seat belt use rates by supporting strategies and activities with the greatest potential for impact.

To be considered for an award under this program in FY 2003, the State's proposed effort must be based on a core component of highly visible enforcement of its seat belt use law. The application must include an intensified Enforcement Plan, which assures participation in at least two enforcement mobilizations, each of which is at least two weeks in duration and includes the participation of local law enforcement agencies covering at least 85 percent of the State's population. The application also must include a comprehensive Public Information and Education (PI&E) Plan with a clear enforcement message designed to make the public aware of the proposed enforcement effort. It is strongly encouraged that States include a paid media component in this PI&E Plan. The State must be willing to submit its media materials (i.e., scripts, storyboards, etc.) and media buy plans for NHTSA review, prior to implementing the project. NHTSA will provide for technical assistance to be available to States for the development and implementation of their PI&E plan. The application must also include an Outreach Plan that specifies the high-risk segments of the community that will be targeted and how they will be reached and the application must include an Evaluation Plan that describes how the State intends to evaluate the impact of its campaign. At a minimum, the evaluation plan must provide for observational surveys of seat belt use, shortly before and after the Operation ABC national mobilization which will take place in May 2003. It is strongly recommended that such observations be conducted before and after the Thanksgiving Day mobilization as well. Due to budget and weather constraints in some States, this is not a requirement. In addition, at least the June 2003 post-mobilization observational survey must be the full (NHTSA approved) statewide seat belt observational survey. Finally, the State's proposed enforcement, PI&E, and outreach efforts must be applied statewide. When the elements described above have been implemented in an intense and coordinated manner, they have frequently resulted in significant increases in statewide seat belt usage rates. Accordingly, these elements (i.e., enforcement, PI&E, outreach and evaluation) are essential for a State's proposal to be considered for award.

States submitting a proposal designed to increase seat belt use in only a limited number of jurisdictions within a State; one that lacks a strong statewide enforcement effort or a clear enforcement message in its PI&E plan; one that does not have an adequate outreach plan to ensure public support for the program; or one that does not include an evaluation component designed to measure statewide changes in seat belt usage at least before and after the May 2003 Operation ABC National mobilization will not be eligible for a grant award.

Special Provisions for Evaluation and Media

NHTSA will reserve approximately $4 million from the FY 2003 funds to conduct national observational surveys to measure changes in seat belt use before and after at least one mobilization in calendar year (CY) 2003, to conduct pre- and post-mobilization telephone surveys, nationwide and in States; to assess changes in public awareness and attitudes regarding enforcement mobilizations; and to provide technical evaluation assistance to the States. As a condition of award, States must agree to provide the results of their own pre- and post-mobilization observational surveys to NHTSA, in a timely fashion, to facilitate NHTSA's overall evaluation of the effectiveness of the FY 2003 grant program. NHTSA will share the results of its telephone surveys with the States. These data will provide information regarding the extent to which the public was aware of the enforcement, PI&E, and outreach efforts in each State, thus assisting statewide evaluation efforts. States may also propose to conduct additional evaluation activities (e.g. conducting motorist surveys at DMVs or licensing centers). NHTSA will aid the States in such efforts wherever possible, such as by tabulating and analyzing the results of motorist/DMV surveys. Should NHTSA select States to conduct certain in-depth evaluations (e.g. DMV surveys), it is expected that such States will cooperate with NHTSA to carry out these activities.

NHTSA will reserve an additional $1 million to provide technical assistance to the States and support their efforts to develop and implement their enforcement-focused media efforts that support the National Seat Belt Enforcement Mobilizations during CY 2003.

Award of Funds and Funding Levels

Every effort will be made to fund as many States as possible. States will receive an award of grant funds under this program if they meet the requirements described in this notice and, in particular, if they adequately provide for the four essential elements (enforcement, PI&E, outreach and evaluation) described in this notice in the “Application Contents and Grant Criteria” section.

In FY 2002, the amount of grant funds that each State received under the Section 157 Innovative Grant program was based on a formula. A formula will not be used in FY 2003. Instead, the funding amount each State receives will be based on the extent to which the agency determines that the activities planned will directly and adequately support the four essential program elements described in the “Application Contents and Grant Criteria” section of this notice and that the activities planned have potential to make a significant impact on seat belt use.

To maximize the potential for impact, it is anticipated that no State will receive a grant award of less than $350,000, subject to the availability of funds. This $350,000 minimum was derived based on experience gained by the agency over the past 3 years of this Innovative Grant program. It reflects the agency's estimate of the minimum resources needed, in smaller or less populated States, to implement an effective statewide seat belt program that includes intensive enforcement and media, appropriate outreach, and a basic level of evaluation.

However, we expect that most States will receive in excess of this minimum amount. When developing their proposals, States are encouraged to consider their level of effort and budget in FY 2002 and whether any significant new activities are being proposed in this fiscal year. For example, if last year's effort did not include paid media and the State believes that paid media would enhance its FY 2003 effort, the State should include paid media in the proposal for this year and adjust its budget accordingly. The agency encourages States to consider the inclusion of paid media in their applications, based on the evidence it has received of the significant impact paid media had on public awareness in South Carolina in the Fall of 2000 and during the eight-state mobilization that took place in the southeast region of the country (NHTSA's Region IV) surrounding Memorial Day 2001.

However, to the extent that the agency determines that proposed activities do not directly or adequately support the four essential program elements (i.e., enforcement, PI&E, outreach, and evaluation) or that they do not have substantial impact potential, these activities will not be recommended for funding.

Allowable Uses of Federal Funds

In FY 2003, the Section 157 Innovative Grant funds will be tracked in a fashion similar to other highway safety grants, through the Grant Tracking System. Funds provided to a State under this grant program shall be used to carry out the approved activities described in the State's application for which the grant is awarded. In addition, allowable uses of Federal funds shall be governed by 49 CFR Part 18—Department of Transportation Uniform Administrative Requirements for Grants and Cooperative Agreements to State and Local Governments and the cost principles contained in OMB Circular A-87.

Eligibility Requirements

Only the 50 States, the District of Columbia and Puerto Rico, through their Governors' Representatives for Highway Safety, will be considered eligible to receive funding under this grant program.

Application Procedures

Each applicant must submit one original and two copies of the application package to the appropriate NHTSA Regional Office (see Appendix A) to the attention of the Regional Administrator.

Applications must be typed on one side of the page only and adhere to the requirements of the Application Contents and Grant Criteria Section below. Appendix B provides a checklist to facilitate the preparation of the proposals. Only application packages submitted by a State's Governor's Representative for Highway Safety and received in the appropriate Regional Office on or before August 15, 2002 will be considered.

Application Contents and Grant Criteria

To be eligible for a grant under Section 157, a State must submit an application that describes and/or documents all of the following:

1. Introduction—A brief description of the State's geographic and demographic population distribution, and any other unique characteristics (e.g., how the seat belt use rate varies within the State by vehicle type or by ethnic populations) that are relevant to the State's plan to increase seat belt use. The introduction should also include a statement that describes the State's current usage rates, along with a discussion of recent trends and goals for seat belt use in CY 2003, and any available information to explain recent progress or lack of progress in increasing seat belt usage. 2.

2. Certifications—A signed statement by the State that: (i) It will use the funds awarded under this grant program exclusively to implement a statewide seat belt program in accordance with the requirements of Section 157(b) of Public Law 105-178 (TEA-21); (ii) it will administer the funds in accordance with 49 CFR part 18 and OMB Circular A-87; (iii) it will provide pre- and post-mobilization observational survey data on seat belt use, for at least the May 2003 Operation ABC National Mobilization to NHTSA within one month following the collection of such data; (iv) it will provide to the NHTSA Regional Administrator, no later than 15 months after the grant award, a report of activities carried out with grant funds and accomplishments to date; and (v) it will comply with all applicable laws and regulations, financial and programmatic requirements.

3. Required Program Elements

(a) High-Visibility Seat Belt Enforcement Plan—Describe the State's plan for its intensified enforcement activities which must include all of the following strategies:

(1) Conduct a minimum of two highly visible seat belt enforcement mobilizations, each two-weeks in duration, including a mobilization from May 19 to June 1, 2003, and another from November 18 to December 1, 2003. If other time frames are proposed, the State must provide adequate justification for why these time frames are more crucial than those listed above. Because of the documented impact of enforcement-based approaches, applications based on non-enforcement approaches to increase seat belt use will not be eligible for award;

(2) Provide assurance that every effort will be made to enlist the participation in the mobilization of local law enforcement agencies covering at least 85 percent of the State's population. Documentation of such effort should include the proposed plan for recruiting State and local law enforcement agency partners and any letters of commitment already secured; and

(3) Provide a description of the enforcement strategies the State plans to employ (e.g., checkpoints, saturation patrols or enforcement zones.) Highly visible and intensive enforcement approaches have frequently been found to increase seat belt usage. Thus, States are encouraged to identify and use the most visible and intensive approaches available to them. Proposals that do not include intensified, highly visible enforcement approaches will not be considered for award.

(b) Comprehensive Public Information and Education Plan—Describe the State's plan for a statewide public information and education (PI&E) strategy to focus public attention on the intensified enforcement effort. Each of the following elements must be included and described:

(1) Conduct a minimum of 4 weeks of public information and education in support of each mobilization. It is assumed that PI&E portions of these mobilizations will occur from May 5 to June 1, 2003, and from November 4 to December 1, 2003. If other time frames for the overall PI&E effort are proposed, the State must supply adequate justification;

(2) Describe the proposed earned and donated media plan to be employed during each of the 4-week periods;

(3) Describe the proposed paid media plan to be employed. It is recommended that paid media be considered for the second and third weeks of each 4-week PI&E period (i.e., May 12 to May 25, 2003, and November 11 to November 24, 2003). Include a brief description of the State's proposed paid media plan, including its media buy, what specific populations or areas will be targeted, and how the State plans to reach the targeted audience, presumably those with the lowest usage rates. The State should also describe the proposed media mix, including radio, TV, billboards, etc. If the State proposes a shorter (e.g., one week) or different (e.g., first and second of the 4 weeks) paid media time frame, or proposes employing no paid media at all, the application should include a justification for that approach. Media and media buy plans must also be submitted for NHTSA review;

(4) Provide assurance that media and media buy plans will be submitted to NHTSA for review, prior to production and purchase;

(5) Describe how messaging (earned, donated, and paid) will be focused primarily on the enforcement effort; any proposed media effort that does not include a focus on enforcement messages will not be accepted; and

(6) Include a discussion of proposed efforts to produce and disseminate ads (paid and public service) that will target low belt use groups or low belt use areas; include a description of plans to produce such ads in languages other than English, as appropriate.

(c) Outreach Plan—Describe the State's Outreach plan, which must include all of the following:

(1) Specify which segments of the community, (e.g. rural, teen, and diverse groups) will be the targets of the outreach effort;

(2) Specify which organizations, networks and other intermediaries will be used to reach the targeted audiences; and

(3) Specify how the outreach effort will build support for the mobilizations.

(d) Evaluation—The State must provide for pre- and post-mobilization observational surveys of seat belt use for at least the Memorial Day, 2003 mobilization (i.e., late April and early June, 2003). It is strongly recommended that such observations be conducted before and after the Thanksgiving Day mobilization as well. Due to budget and weather constraints in some States, this is not a requirement. The pre-survey for the Memorial Day 2003 mobilization may either be the full (NHTSA-approved) statewide seat belt observational survey or “sub-sample survey” which uses a stratified sample of observational sites included in the statewide survey. These sites should be selected to be as representative of the State as possible, e.g., mix of rural/urban; various socioeconomic strata, etc. The post Memorial Day survey must be the full (NHTSA approved) statewide survey. The State must describe how, where, and when it will conduct the observational surveys supported by this grant. The application must also include a description of how the evaluation effort will be implemented and managed. NHTSA recognizes that many States already have comprehensive efforts underway to evaluate their entire occupant protection programs. States are encouraged to integrate the evaluation of this program with those broader efforts. NHTSA is prepared to offer technical assistance for evaluation, including the provision of survey protocols and instruments to any State, upon request, and to the extent possible, by providing data analysis support (particularly for DMV motorist surveys).

4. Budget—Each State's application must include a budget, using the format in Appendix C, with the following categories:

a. Program Management and Coordination—Include the estimated total cost for personnel.

b. Enforcement—Estimate the funds devoted to enforcement programs (include sub-grants to law enforcement agencies, mini-grants, etc.).

c. Public Information and Education—Estimate the funds assigned to each key element of the PI&E component, which may or may not include the following:

1. Public relations consultants;

2. Campaign events;

3. Development of ads/PSAs;

4. Purchase of ads;

5. Materials and incentives; and

6. Other PI&E costs.

d. Outreach—Estimate the funds devoted to making contact with groups, networks, associations and other organizations that can be enlisted to help foster support for the high visibility enforcement effort among diverse segments of the State's population.

e. Evaluation—Include the estimated cost for conducting pre- and post-mobilization observational surveys of seat belt use for at least the May 2003 mobilization.

Note: The State has the option of proposing more in-depth evaluation, including observational surveys before and after other mobilizations, as well as telephonic and other forms of awareness and attitudinal surveys.

The State shall include in the budget for FY 2003 grant funds information on prior-year innovative grant funds. Specifically, the State shall itemize how much of these prior year funds have not yet been expended and how much will be re-allocated to support the FY 2003 program. States are reminded that all remaining FY 2000, Section 157 Innovative Grant funds must be spent by the end of FY 2003 (i.e., by September 30, 2003).

Reporting Requirements and Deliverables: Following award, each successful applicant will be responsible for providing the following reports:

1. Quarterly Reports—The quarterly reports should include a summary of enforcement and other activities and accomplishments for the preceeding period, significant problems encountered or anticipated, a brief itemization of expenditures made during the 3-month reporting period, and proposed activities for the upcoming reporting period. Please note: Many States will be continuing to spend funds already awarded during the first 3 years of this Section 157 Innovative Grant program after these fourth year funds are awarded. NHTSA does not intend nor desire that States submit separate Quarterly Reports for the various funding years. Activities carried out during a reporting period under all four years of funding should be documented in the same report. However, the State should include a tabulation of how much funds were expended during the reporting period from each year. Also, during the first 2 years, a number of States modified their grants to change from Quarterly to Monthly reporting. Those States should continue to submit Monthly Reports during the fourth year, at least until all first and second year funds have been spent. Any decisions and actions required in the upcoming program period should be included in the report.

2. Final Report—A Final Report that includes a summary of the impact of the year-long (CY 2003) program. It should include a complete description of the innovative projects conducted, including partners, overall program implementation, evaluation methodology and findings from the program evaluation. In terms of information transfer, it is important to know what worked and what did not work, under what circumstances, and what can be done to avoid potential problems in future projects. The grantee shall submit three copies of the Final Report to the Regional Office within fifteen months following grant award.

Application Review Procedures

All applications will be reviewed by an Evaluation Committee to ensure that the application meets all of the requirements contained in this notice, including the requirements contained in the “Application Contents and Grant Criteria” section of the Notice. This evaluation process may include submission of technical or program questions from the evaluation committee to the applicants. In addition, the Evaluation Committee will determine whether the activities and identified resources included in the proposals will directly and adequately support the four essential program elements described in the “Application Contents and Grant Criteria” section of this notice and whether the proposed activities have potential to make a significant impact on seat belt use. To the extent that the Evaluation Committee determines that proposed activities will not directly and adequately support the four essential program elements (enforcement, PI&E, outreach, and evaluation) or that they will not have substantial impact potential, such activities will not be recommended for funding.

More specifically, the Evaluation Committee's review will assess: (a) The comprehensiveness, intensity, feasibility, and potential impact of the proposed approach for each of the required program elements (i.e. enforcement, PI&E, outreach, and evaluation); (b) the extent to which adequate funding (from a variety of sources) has been identified to carry out the proposed program elements; and (c) the extent to which the funds requested in the grant proposal are allocated to the required program elements and are not diverted to activities with less potential for impact. Activities within any proposal that are determined by the evaluation team not to have significant potential for increasing seat belt usage in the State will not be approved for funding. As previously stated, NHTSA will make every effort to maximize the number of awards made. It is anticipated that awards will be made in November 2002.

Rose A. McMurray,
Associate Administrator for Traffic Safety Programs.

Appendix A

NHTSA Regional Offices

Region I (CT, MA, ME, NH, RI, VT)

Volpe National Transportation Systems Center, 55 Broadway, Kendall Square, Code 903, Cambridge, MA 02142

Region II (NJ, NY, PR)

222 Mamaroneck Avenue Suite 204, White Plains, NY 10605

Region III (DE, DC, MD, PA, VA, WV)

10 South Howard Street, Suite 4000, Baltimore, MD 21201

Region IV (AL, FL, GA, KY, MS, NC, SC, TN)

Atlanta Federal Center, 61 Forsyth Street, SW, Suite 17T30, Atlanta, GA 30303

Region V (IL, IN, MI, MN, OH, WI)

19900 Governors Drive, Suite 201, Olympia Fields, IL 60461

Region VI (AR, LA, NM, OK, TX)

819 Taylor Street, Room 8A38, Fort Worth, TX 76102-6177

Region VII (IA, KS, MO, NE)

901 Locust Street, Room 466, Kansas City, MO 64106

Region VIII (CO, MT, ND, SD, UT, WY)

555 Zang Street, Room 430, Lakewood, CO 80228

Region IX (AZ, CA, HI, NV)

201 Mission Street, Suite 2230, San Francisco, CA 94105

Region X (AK, ID, OR, WA)

3140 Jackson Federal Building, 915 Second Avenue, Seattle, WA 98174

Appendix B

Application Checklist; Section 157 Innovative Grant Application for FY 2003

Applying State:

Reviewer:

Indicate whether the application adequately addresses each listed item.

Item No. | YES | NO | Does the application adequately . . .
Intro. 1.1 |  |  | Describe the State's geographic and demographic population distribution and other unique characteristics relevant to the State's plan?
Intro. 1.2 |  |  | Describe the State's usage rates and recent trends, along with discussion of factors contributing to recent progress or lack of progress?
Intro. 1.3 |  |  | Describe the seat belt use increase expected to be achieved by means of the proposed activities?
Certs. 2.1 |  |  | Certify that the State will use the proposed funds exclusively to implement a statewide seat belt program in accordance with the requirements of Section 157(b)?
Certs. 2.2 |  |  | Certify that the State will administer the proposed funds in accordance with CFR Part 18 and OMB Circular A-87?
Certs. 2.3.1 |  |  | Certify that the State will provide pre- and post-mobilization observational survey data on seat belt use, for at least the May 2003 Operation ABC national mobilization, to NHTSA, within one month following the collection of such data?
Certs. 2.3.2 |  |  | Certify that at least the post-May mobilization survey will be a full NHTSA-approved survey?
Certs. 2.4 |  |  | Certify that the State will provide a report on grant activities and accomplishments to the NHTSA Regional Administrator no later than 15 months after grant award?
Certs. 2.5 |  |  | Certify that the State will comply with all applicable laws and regulations, financial and programmatic requirements?
Enforce. 3.1 |  |  | Document the State's intent to conduct a minimum of two, two-week long, high visibility seat belt enforcement mobilizations, including May 19-June 1, 2003, and November 18-December 1, 2003?
Enforce. 3.1.1 (if NO to 3.1) |  |  | Supply justification for different mobilization time frames?
Enforce. 3.2 |  |  | Describe a plan for recruiting participation in the mobilizations by local law enforcement agencies targeting at least 85% of the State's population?
Enforce. 3.3 |  |  | Describe proven effective enforcement strategies the State plans to use for the mobilizations?
Enforce. 3.3.1 (if YES to 3.3) |  |  | Include proven enforcement strategies? • Checkpoints? • Saturation Patrols? • Enforcement Zones? (check all that apply)
Enforce. 3.3.2 (if NO to 3.3) |  |  | Describe some highly visible enforcement strategy or strategies that the State plans to use, other than checkpoints, saturation patrols or enforcement zones?
PI&E 4.1 |  |  | Document the State's intent to conduct a minimum of two, four-week periods of PI&E in support of seat belt enforcement mobilizations, including May 5-June 1, 2003, and November 4-December 1, 2003?
PI&E 41.1 (if NO to 4.1) |  |  | Supply justification for different PI&E time frames?
PI&E 4.2 |  |  | Describe the earned and donated media to be employed to support the mobilizations?
PI&E 4.3 |  |  | Describe the paid media to be employed during the 2nd and 3rd weeks of each PI&E period, including May 12-25, and Nov. 11-24, 2003?
PI&E 4.3.1 (if NO to 4.3) |  |  | Supply justification for a different paid media schedule, or for employing no paid media at all?
PI&E 4.4 (if the application includes proposed paid media) |  |  | Describe the media buy plan that the State expects to develop?
PI&E 4.5 |  |  | Assure that the State will submit its media (scripts, storyboards, etc.) and media buy plan (if any) for NHTSA's review before they are produced or implemented?
PI&E 4.6 |  |  | Assure that messaging (earned, donated or paid) will be focused on the enforcement effort?
PI&E 4.7 |  |  | Discuss the State's needs to produce PSAs and advertisements in languages other than English, as appropriate?
Outreach 5.1 |  |  | Specify the segments, particularly diverse segments, of the community to be targeted by the outreach efforts?
Outreach 5.2 |  |  | Specify the organizations, networks and other intermediaries to be used to reach the targeted segments?
Outreach 5.3 |  |  | Specify how the outreach effort will build support for and reduce opposition to the enforcement mobilizations?
Evaluation 6.1 |  |  | Document the State's intent to conduct pre- and post-mobilization observational surveys of seat belt use for at least the May 2003 mobilization?
Budget 7.1 |  |  | Document and explain the proposed allocation of requested funds from FY 2003, and remaining funds from previous fiscal years to Program Management & Coordination, Enforcement, PI&E, Outreach and Evaluation?
Budget 7.2 |  |  | Describe how the funds requested under this proposal will directly support the four critical program elements (i.e., enforcement, public information and education, outreach, and evaluation)?

Appendix C

The State shall complete the following Table, and include it in the application for the FY 2003 Section 157 Innovative grant.

| FY 2003 157 Innovative Request | Remaining FY 2001 157 Innov Grant | Remaining FY 2000 157 Innov Grant | Other funding sources*
1. Total | $XXXX | $XXXX | $XXXX | Specify Sources: (Total available funds not needed).
2. Total to be applied to items 3-7 |  | $XXXX | $XXXX | $XXXX
3. Program Management/Coordination: | $XXXX | $XXXX | $XXXX | $XXXX
• Personnel |  |  |  |
• Other |  |  |  |
4. Enforcement | $XXXX | $XXXX | $XXXX | $XXXX
5. PI & E: | $XXXX | $XXXX | $XXXX | $XXXX
• Paid Media |  |  |  |
• Other |  |  |  |
6. Outreach | $XXXX | $XXXX | $XXXX | $XXXX
7. Evaluation | $XXXX | $XXXX | $XXXX | $XXXX
8. Difference between items 1 and 2 above** | $XXXX | $XXXX | $XXXX | Not applicable.
* Other funding sources include: other Federal grants, private funds, State and local funds, etc.
** In the application, the State shall provide an explanation for any values other than zero in Item 8 above.

[FR Doc. 02-14752 Filed 6-11-02; 8:45 am]

BILLING CODE 4910-59-P